POSTAL SERVICE

39 CFR Part 111

New Mailing Standards for Domestic Mailing Services Products

AGENCY: Postal Service™.

ACTION: Final rule.

SUMMARY: On October 6, 2017, the Postal Service (USPS®) filed a notice of mailing services price adjustments with the Postal Regulatory Commission (PRC) in Docket No. R2018-1. On October 13, 2017 the Postal Service published a proposed rule containing the revisions to Mailing Standards of the United States Postal Service, Domestic Mail Manual (DMM®) that we planned to adopt to implement rule changes coincident with the price adjustments.

DATES: Effective: January 21, 2018.

FOR FURTHER INFORMATION CONTACT: Jacqueline Erwin at (202) 268-2158, or Lizbeth Dobbins at (202) 268-3789.

SUPPLEMENTARY INFORMATION: On November 9, 2017, the PRC found that the price adjustments proposed by the Postal Service may take effect as planned. The price adjustments and DMM revisions are scheduled to become effective on January 21, 2018. Final prices are available under Docket No. R2018-1 (Order No. 4215) on the Postal Regulatory Commission's Web site at www.prc.gov. The Postal Service's final rule includes: a change to the pallet preparation for Carrier Route (CR) Pallets in Non-FSS Zones, a change to add Bound Printed Matter Flats up to 24 ounces to comail with USPS Marketing Mail and Periodicals (DSCF or DDU only), and a Zone chart revision for Priority Mail to APO/FPO/DPO processing at Chicago ISC.

Comments on Proposed Changes and USPS Response

The Postal Service received 1 formal comment on the October 13, 2017 proposed rule.

Zone Charts Revision: Priority Mail to APO/FPO/DPO Processing at Chicago ISC

One comment requested that the Postal Service reconsider changing APO/FPO/DPO mail processing at Chicago ISC, based on needing more study on negative, financial consequences on US Service members, their families and businesses that serve them.

USPS Response

The Postal Service is revising Zone charts for Priority Mail to APO/FPO/DPO, which is processed at the Chicago ISC, based on operational needs. This revision reflects current operations and is consistent with Title 39 and former Postal Rate Commission precedent regarding the alignment of rates and costs for mail classification. It is necessary to align rates and costs for Priority Mail addressed to APO/FPO/DPO destinations, and eliminate inconsistencies between rates and costs for such Priority Mail.

The Proposed Rule is not a sudden, unforeseeable change in policy. The transfer of processing operations to the Chicago ISC, and the resulting inconsistency between Zone classification and transportation costs, occurred in 2013. For over three years, mailers had an opportunity to assess the potential impact of this change on future operations, and some businesses responded to the change by relocating their operations in anticipation of a potential reclassification of zones necessary to align rates and costs.

The resulting changes to DMM 608 are shown below.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Mail Letters, Cards, Flats, and Parcels

201 Physical Standards

* * * * *

5.0 Physical Standards for Nonautomation Flats

* * * * *

5.3 Bound Printed Matter

These additional standards apply to Bound Printed Matter:

* * * * *

[Revise the text of item b to read as follows:]

b. Bound Printed Matter may not weigh more than 20 ounces (except under 705.15).

* * * * *

6.0 Physical Standards for Automation Flats

* * * * *

6.2 Additional Criteria for Automation Flats

* * * * *

6.2.2 Maximum Weight

Maximum weight limits are as follows:

* * * * *

[Revise the text of item d to read as follows:]

d. For Bound Printed Matter, 20 ounces (except under 705.15).

* * * * *

600 Basic Standards for All Mailing Services

* * * * *

608 Postal Information and Resources

* * * * *

9.0 Postal Zones

* * * * *

9.2 Application

* * * * *

a. For the purposes of computing postal zone information, except for items 9.2b and 9.2c, the following table applies to MPOs not listed in L005.

[Revise the ZIP Code groups listed under the “3-DIGIT ZIP CODE PREFIX GROUP” column by adding asterisks and add a new footnote to read as follows:]

3-DIGIT ZIP CODE PREFIX GROUP

090-098*

340

962-966*

* Priority Mail service destinating to these ZIP Codes is served by SCF Chicago IL 606.

[Revise the text of item b to read as follows:]

b. The postage prices for zoned mail transported between the United States, the Canal Zone, Puerto Rico, or U.S. territories or possessions, including the Freely Associated States on the one hand, and MPOs on the other, or, among the MPOs, are the applicable zone prices for mail between the place of mailing or delivery and the city of the postmaster serving the MPO concerned.

* * * * *

700 Special Standards

* * * * *

705 Advanced Preparation and Special Postage Payment Systems

* * * * *

10.0 Merging Bundles of Flats Using the City State Product

10.1 Periodicals

* * * * *

10.1.5 Pallet Preparation and Labeling

[Revise the second sentence in the introductory text of 10.1.5 to read as follows:]

* * * When sortation under this option is performed, after completing required or optional carrier route pallets (if any), mailers must prepare all merged 5-digit scheme, and merged 5-digit pallets that are possible in the mailing based on the volume of mail to the destination using L001 and/or the City State Product. * * *

[Reverse the order of items a. and b.; and revise the text of reordered items a. and b. to read as follows:]

a. 5-digit scheme carrier routes, required; optional with no minimum. May contain only carrier route bundles for carrier routes for 5-digit ZIP Codes identified in the L001 5-digit scheme listing. Labeling:

1. Line 1: Use L001, Column B.

2. Line 2: “PER” or “NEWS” as applicable; followed by “FLTS”; followed by “CR-RTS SCHEME.”

b. Merged 5-digit scheme, required and permitted only when there is at least one 5-digit ZIP Code in the scheme that has an “A” or “C” indicator in the City State Product. May contain carrier route bundles for any 5-digit ZIP Code(s) in a single scheme listed in L001 as well as machinable barcoded price 5-digit bundles and machinable nonbarcoded price 5-digit bundles for those 5-digit ZIP Codes in the scheme that have an “A” or “C” indicator in the City State Product. Labeling:

1. Line 1: Use L001, Column B.

2. Line 2: “PER” or “NEWS” as applicable; followed by “FLTS”; followed by “CR/5D SCHEME.”

[Reverse the order of items c and d; and revise the text of reordered item c to read as follows:]

c. 5-digit carrier routes, required; optional with no minimum. May contain only carrier route price bundles for the same 5-digit ZIP Code for those 5-digit ZIP Codes that are not part of a scheme. Labeling:

1. Line 1: Use city, state, and 5-digit ZIP Code destination (see 8.6.4 for military mail).

2. Line 2: “PER” or “NEWS” as applicable; followed by “FLTS”; followed by “CARRIER ROUTES” or “CR-RTS.”

* * * * *

10.2 USPS Marketing Mail

* * * * *

10.2.5 Pallet Preparation and Labeling

[Revise the first two sentences of the introductory text of 10.2.5 to read as follows:]

Mailers must prepare pallets of bundles in the manner and sequence listed below and under 8.0. When sortation under this option is performed, after completing required or optional carrier route pallets (if any), mailers must prepare all merged 5-digit scheme and merged 5-digit pallets that are possible in the mailing based on the volume of mail to the destination using L001 and/or the City State Product. * * *

[Reverse the order of items a and b; and revise the text in reordered items a and b to read as follows:]

a. 5-digit scheme carrier routes, required; optional with no minimum. May contain only carrier route bundles for carrier routes for 5-digit ZIP Codes identified in the L001 5-digit scheme listing. Labeling:

1. Line 1: Use L001, Column B.

2. Line 2: “MKT FLTS CR-RTS SCHEME.”

b. Merged 5-digit scheme, required and permitted only when there is at least one 5-digit ZIP Code in the scheme that has an “A” or “C” indicator in the City State Product. May contain carrier route bundles for any 5-digit ZIP Code(s) in a single scheme listed in L001 as well as automation price 5-digit bundles and Presorted price 5-digit bundles for those 5-digit ZIP Codes in the scheme that have an “A” or “C” indicator in the City State Product. Labeling:

1. Line 1: Use L001, Column B.

2. Line 2: “MKT FLTS CR/5D SCHEME.”

[Reverse the order of items c and d; and revise the text of reordered item c to read as follows:]

c. 5-digit carrier routes, required; optional with no minimum. May contain only carrier route price bundles for the same 5-digit ZIP Code for those 5-digit ZIP Codes that are not part of a scheme. Labeling:

1. Line 1: Use city, state, and 5-digit ZIP Code destination (see 8.6.4 for military mail).

2. Line 2: “MKT FLTS,” followed by “CARRIER ROUTES” or “CR-RTS.”

* * * * *

12.0 Merging Bundles of Flats on Pallets Using a 5% Threshold

12.1 Periodicals

* * * * *

12.1.5 Pallet Preparation and Labeling

[Revise the second sentence in the introductory text of 12.1.5 to read as follows:]

* * * When sortation under this option is performed, after completing required or optional carrier route pallets (if any), mailers must prepare all merged 5-digit scheme, 5-digit scheme, and merged 5-digit pallets that are possible in the mailing based on the volume of mail to the destination using L001 and the 5% threshold, as applicable. * * *

Prepare and label pallets as follows:

[Reverse the order of items a and b; and revise the text of reordered items a. and b. to read as follows:]

a. 5-digit scheme carrier routes, required; optional with no minimum. May contain only carrier route bundles for all carrier routes for 5-digit ZIP Codes identified in the L001 5-digit scheme listing. Labeling:

1. Line 1: Use L001, Column B.

2. Line 2: “PER” or “NEWS” as applicable; followed by “FLTS” or “IRREG” as applicable; followed by “CR-RTS SCHEME.”

b. Merged 5-digit scheme, required; * * * For 5-digit ZIP Codes not included in a scheme, begin preparing pallets under 12.1.5e (merged 5-digit pallet). Labeling:

1. Line 1: use L001, Column B.

2. Line 2: “PER” or “NEWS” as applicable; followed by “FLTS” or “IRREG” as applicable; followed by “CR/5D SCHEME.”

* * * * *

[Reverse the order of items d and e; and revise the text of reordered item d to read as follows:]

d. 5-digit carrier routes, required; optional with no minimum. May contain only carrier route price bundles for the same 5-digit ZIP Code for those 5-digit ZIP Codes that are not part of a scheme. Labeling:

1. Line 1: Use city, state, and 5-digit ZIP Code destination (see 8.6.4 for military mail).

2. Line 2: “PER” or “NEWS” as applicable; followed by “FLTS” or “IRREG” as applicable; followed by “CARRIER ROUTES” or “CR-RTS.”

* * * * *

[Add new heading 12.2, USPS Marketing Mail, renumber 12.1.6 through 12.1.8 as 12.2.1 through 12.2.3]

12.2 USPS Marketing Mail

* * * * *

12.2.3 Pallet Preparation and Labeling

[Revise the second sentence in the introductory text of renumbered 12.2.3 to read as follows:]

* * * When sortation under this option is performed after completing required or optional carrier route pallets (if any), mailers must prepare all merged 5-digit scheme, and merged 5-digit pallets that are possible in the mailing based on the volume of mail to the destination using L001 and the 5% threshold. * * *

[Reverse the order of items a and b; and revise the text in reordered items a. and b. to read as follows:]

a. 5-digit scheme carrier routes, required, optional with no minimum. May contain only carrier route bundles for carrier routes for 5-digit ZIP Codes identified in the L001 5-digit scheme listing. Labeling:

1. Line 1: Use L001, Column B.

2. Line 2: “MKT FLTS CR-RTS SCHEME.”

b. Merged 5-digit scheme, required, permitted only when 5-digit bundles for at least one 5-digit ZIP Code in the scheme may be merged with carrier route bundles under the 5% threshold standard in 12.2.2. * * * For 5-digit ZIP Codes not included in a scheme, begin preparing pallets under 12.2.3d (merged 5-digit pallet). Labeling:

1. Line 1: Use L001, Column B.

2. Line 2: “MKT FLTS CR/5D SCHEME.”

* * * * *

[Reverse the order of items c and d; and revise the text of reordered item c to read as follows:]

c. 5-digit carrier routes, required, optional with no minimum. May contain only carrier route price bundles for the same 5-digit ZIP Code for those 5-digit ZIP codes that are not part of a scheme. Labeling:

1. Line 1: Use city, state, and 5-digit ZIP Code destination (see 8.6.4 for military mail).

2. Line 2: “MKT FLTS”; followed by “CARRIER ROUTES” or “CR-RTS.”

* * * * *

13.0 Merging Bundles of Flats on Pallets Using the City State Product and a 5% Threshold

13.1 Periodicals

13.1.1 Basic Standards

* * * * *

[Revise the text of item e to read as follows:]

e. After completing all possible required or optional carrier route pallets (if any), mailers must prepare all merged 5-digit scheme and 5-digit scheme pallets according to standards in 13.1.5.

* * * * *

13.1.5 Pallet Preparation and Labeling

[Revise the second sentence in the introductory text of 13.1.5 to read as follows:]

* * * When sortation under this option is performed, after completing required or optional carrier route pallets (if any), mailers must prepare all merged 5-digit scheme, 5-digit scheme, and merged 5-digit pallets that are possible in the mailing based on the volume of mail to the destination (8.0) using L001, the City State Product, and the 5% threshold (13.1.4), as applicable. * * * Prepare and label pallets as follows:

* * * * *

[Reverse the order of items a and b; and revise the text of reordered item a to read as follows:]

a. 5-digit scheme carrier routes, required, optional with no minimum. May contain only carrier route bundles for carrier routes for 5-digit ZIP Codes identified in the L001 5-digit scheme listing. Labeling:

1. Line 1: Use L001, Column B.

2. Line 2: “PER” or “NEWS” as applicable; followed by “FLTS” or “IRREG” as applicable; and followed by “CR-RTS SCHEME.”

* * * * *

[Reverse the order of items d and e; revise the text of reordered item d to read as follows:]

d. 5-digit carrier routes, required; optional with no minimum. May contain only carrier route price bundles for the same 5-digit ZIP Code for those 5-digit ZIP Codes that are not part of a scheme. Labeling:

1. Line 1: Use city, state, and 5-digit ZIP Code destination (see 8.6.4 for military mail).

2. Line 2: “PER” or “NEWS” as applicable; followed by “FLTS” or “IRREG” as applicable; and followed by “CARRIER ROUTES” or “CR-RTS.”

* * * * *

13.2 USPS Marketing Mail

* * * * *

13.2.4 Pallet Preparation and Labeling

[Revise the second sentence of the introductory text of 13.2.4 to read as follows:]

* * * When sortation under this option is performed after completing required or optional carrier route pallets (if any), mailers must prepare all merged 5-digit scheme, and merged 5-digit pallets that are possible in the mailing based on the volume of mail to the destination using L001, the City State Product, and the 5% threshold. Mailers must label pallets according to the Line 1 and Line 2 information listed below and under 8.6.

[Reverse the order of items a and b; revise the text of reordered item a. to read as follows:]

a. 5-digit scheme carrier routes, required, optional with no minimum. May contain only carrier route bundles for carrier routes for 5-digit ZIP Codes identified in the L001 5-digit scheme listing. Labeling:

1. Line 1: Use L001, Column B.

2. Line 2: “MKT FLTS CR-RTS SCHEME.”

* * * * *

[Reverse the order of items c and d; revise the text of reordered item c to read as follows:]

c. 5-digit carrier routes, required, optional with no minimum. May contain only carrier route price bundles for the same 5-digit ZIP Code for those 5-digit ZIP Codes that are not part of a scheme. Labeling:

1. Line 1: Use city, state, and 5-digit ZIP Code destination (see 8.6.4 for military mail).

2. Line 2: “MKT FLTS,” followed by “CARRIER ROUTES or “CR-RTS.”

* * * * *

[Revise the heading of 15.0 to read as follows:]

15.0 Combining USPS Marketing Mail Flats, Bound Printed Matter Flats, and Periodicals Flats

15.1 Basic Standards

[Revise the introductory text of 15.1 to read as follows:]

Authorized mailers may combine USPS Marketing Mail flats, Bound Printed Matter flats, and Periodicals flats in a single mailing as follows:

[Revise the text in item a to read as follows:]

a. Each mailpiece must meet the standards in 240 for USPS Marketing Mail, 260 for Bound Printed Matter and 207 for Periodicals. Periodicals publications must be authorized or pending original or additional entry at the office of mailing.

[Revise the text of item b by adding a new last sentence to read as follows:]

b. * * * For exceptions to bundling contact the Pricing and Classification Service Center (see 608.8.0).

* * * * *

[Revise the text of item e to read as follows:]

e. Each mailing must include at least 200 pieces or 50 pounds of USPS Marketing Mail and/or at least 300 pieces of Bound Printed Matter mail, when USPS Marketing Mail and/or Bound Printed Matter are combined within a mailing.

* * * * *

[Add new item h, to read as follows:]

h. Each comailing containing Bound Printed Matter flats must:

1. Be entered at a destination sectional center facility (DSCF) or a destination delivery unit (DDU) (Presorted DDU prices are not available for flats that weigh 1 pound or less).

a. When prepared and entered at a destination sectional center facility (DSCF) at 5-digit, 3-digit/SCF level pallets, BPM pieces should weigh no more than 20 ounces.

1. Heavier BPM pieces, (pieces greater than 20 ounces and less than 24 ounces) in comail can only be placed in CR level bundles on a pallet included in no less than SCF/3D sortation entered at an SCF.

2. Not exceed the maximum weight of 24 ounces per piece within the same bundle, when comailed with Periodicals pieces.

a. The maximum number of heavier pieces would be no more than half of each bundle. (Half of the bundle can have BPM pieces that weigh 20-24 ounces).

b. The maximum bundle weight is 20 pounds.

15.1.1 Service Objectives

[Revise the text in 15.1.1 to read as follows:]

The Postal Service processes combined mailings of USPS Marketing Mail, Bound Printed Matter, and Periodicals flats to the service standards of USPS Marketing Mail.

15.1.2 Postage Payment

[Revise the first sentence of 15.1.2 to read as follows:]

Postage for all USPS Marketing Mail and Bound Printed Matter pieces must be paid with permit imprint using a special postage payment system in 2.0 through 4.0 at the Post Office location serving the mailer's plant. * * *

15.1.3 Documentation

* * * In addition, mailers must provide:

* * * * *

[Delete current item f. and renumber item g. to item f. to read as follows:]

f. Any additional documentation to support postage payment system records, if requested.

15.1.4 Authorization

[Revise the first sentence and add a new fourth sentence of 15.1.4 to read as follows:]

A mailer must submit a written request to the manager, Business Mailer Support (see 608.8.1 for address) to combine mailings of USPS Marketing Mail flats, Bound Printed Matter flats, and Periodicals flats. * * * When requested, a mailer must submit a copy of a notification document signed and dated by the Periodicals publisher, acknowledging the mailer's participation in a combined mailing of USPS Marketing Mail and Periodicals and the potential for the mailpieces to receive deferred USPS handling. * * *

15.1.5 Price Eligibility

[Revise the first sentence in 15.1.5 to read as follows:]

Apply prices based on the standards in 240 for USPS Marketing Mail and 260 for Bound Printed Matter flats. * * *

* * * * *

[Revise the heading of 15.2 to read as follows:]

15.2 Combining USPS Marketing Mail Flats, Bound Printed Matter Flats, and Periodicals Flats in the Same Bundle

* * * * *

15.2.2 Mailpiece and Bundle Identification

[Revise the text in 15.2.2 to read as follows:]

Each USPS Marketing Mail, Bound Printed Matter, and Periodicals mailpiece prepared under a combined mailing of USPS Marketing Mail flats, Bound Printed Matter flats, and Periodicals flats must be identified as being part of a mixed class mailing through the use of an optional endorsement line (OEL) in accordance with the standards in 203.7.1.8. Post-print consolidators who have mailings of USPS Marketing Mail and Bound Printed Matter, using Permit Imprint may include a “Co-Class” marking.

* * * * *

[Revise the heading of 15.3 to read as follows:]

15.3 Combining Bundles of USPS Marketing Mail Flats, Bound Printed Matter Flats, and Periodicals Flats on the Same Pallet

* * * * *

15.3.2 Mailpiece and Bundle Identification

[Revise the introductory text in item a. in 15.3.2 to read as follows:]

Each USPS Marketing Mail, Bound Printer Matter, and Periodicals mailpiece prepared under a combined mailing of USPS Marketing Mail flats, Bound Printed Matter flats, and Periodicals flats must be identified as being part of a mixed class mailing through the use of an optional endorsement line (OEL) in accordance with standards in 203.7.1.8. Post-print consolidators who have mailings of USPS Marketing Mail and Bound Printed Matter, using Permit Imprint may include a “Co-Class” marking.

* * * * *

15.4 Pallet Preparation

15.4.1 Pallet Preparation, Sequence and Labeling

[Revise the text in 15.4.1 to read as follows:]

When combining USPS Marketing Mail, Bound Printed Matter, and Periodicals flats within the same bundle or combining bundles of USPS Marketing Mail flats, Bound Printed Matter flats, and bundles of Periodicals flats on pallets, bundles must be placed on pallets. For labeling, '”MKT/BPM/PER FLTS”, as applicable' means to label each individual pallet based on the classes of mailpieces on that individual pallet. As an example, in a combined mailing of USPS Marketing Mail, Bound Printed Matter, and Periodicals flats, some pallets may be labeled “MKT/BPM/PER” while others might properly be labeled “MKT/BPM,” “MKT/PER,” “BPM/PER,” or even “MKT,” “BPM,” or “PER.”

Preparation, sequence and labeling:

a. 5-digit scheme carrier routes, required. * * * Labeling:

* * * * *

[Revise item a 2 to read as follows:]

2. Line 2: “MKT/BPM/PER FLTS,” as applicable; * * *

b. Merged 5-digit scheme, optional. * * * Labeling:

* * * * *

[Revise item b 2 to read as follows:]

2. Line 2: “MKT/BPM/PER FLTS CR/5D,” as applicable * * *

c. Merged 5-digit, optional. * * * Labeling:

* * * * *

[Revise item c 2 to read as follows:]

2. Line 2: “MKT/BPM/PER FLTS,” as applicable; * * *

d. 5-digit carrier routes, required. * * * Labeling:

* * * * *

[Revise item d 2 to read as follows:]

2. Line 2: “MKT/BPM/PER FLTS,” as applicable; * * *

e. 5-digit, required. * * * Labeling:

* * * * *

[Revise item e 2 to read as follows:]

2. Line 2: “MKT/BPM/PER FLTS,” as applicable; * * *

f. 3-digit, optional, * * * Labeling:

* * * * *

[Revise item f 2 to read as follows:]

2. Line 2: “MKT/BPM/PER FLTS,” as applicable; * * *

g. SCF, required. * * * Labeling:

* * * * *

[Revise item g 2 to read as follows:]

2. Line 2: “MKT/BPM/PER FLTS,” as applicable; * * *

h. ASF, required unless bundle reallocation used under 15.1.10. * * * Labeling:

* * * * *

[Revise item h 2 to read as follows:]

2. Line 2: “MKT/BPM/PER FLTS NDC,” as applicable; * * *

* * * * *

[Revise item i to read as follows:]

i. NDC, required. Pallet may contain carrier route, automation or presorted mail for the 3-digit ZIP Code groups in L601. * * * Labeling:

* * * * *

[Revise item i 2 to read as follows:]

2. Line 2: “MKT/BPM/PER FLTS NDC,” as applicable; * * *

* * * * *

[Revise item j to read as follows:]

j. Mixed NDC, required, 100 pound minimum. Pallet may contain carrier route, automation or presorted mail. * * * Labeling:

* * * * *

[Revise item j 2 to read as follows:]

2. Line 2: “MKT/BPM/PER FLTS,” as applicable;

* * * * *

We will publish an appropriate amendment to 39 CFR part 111 to reflect these changes.

Stanley F. Mires,
Attorney, Federal Compliance.

[FR Doc. 2017-25488 Filed 11-24-17; 8:45 am]

BILLING CODE 7710-12-P